NEIGHBORHOOD REINVESTMENT CORPORATION

Sunshine Act Meetings

TIME AND DATE: 2 p.m., Thursday, June 17, 2021.

PLACE: Via Conference Call.

STATUS: Parts of this meeting will be open to the public. The rest of the meeting will be closed to the public.

MATTERS TO BE CONSIDERED: Annual Board of Directors meeting.

The General Counsel of the Corporation has certified that in his opinion, one or more of the exemptions set forth in 5 U.S.C. 552 (b)(2) and (4) permit closure of the following portion(s) of this meeting:

• Executive Session

Agenda

I. Call to Order

II. Executive Session Discussion with General Counsel and Chief Audit Executive

III. Executive Session Executive Compensation Review

IV. Executive Session: Report from CEO

V. Executive Session: Report from CFO

VI. NeighborWorks Compass™ Update

VII. Action Item Approval of Minutes

VIII. Action Item Board Elections and Appointments

IX. Action Item Revision of Bylaws for Creation of the Chief Information Officer Position

X. Action Item Management Elections

XI. Action Item Grants to the Capital Corporations

XII. Action Item HPN Launchpad Contract Extension

XIII. Action Item LIFT 8.0

XIV. Discussion Item Annual Ethics Review

XV. Discussion Item Annual Review of Governance Operations Guide

XVI. Discussion Item Investment Policy Review

XVII. Management Program Background and Updates

XVIII. Adjournment

Portions Open to the Public: Everything except the Executive Session.

Portions Closed to the Public: Executive Session.

CONTACT PERSON FOR MORE INFORMATION: Lakeyia Thompson, Special Assistant, (202) 524-9940; Lthompson@nw.org.

Lakeyia Thompson,
Special Assistant.

[FR Doc. 2021-12020 Filed 6-3-21; 4:15 pm]

BILLING CODE 7570-02-P